DEPARTMENT OF THE INTERIOR

Bureau of Land Management

[NM 050-02-1610-DO]

Notice of Intent to Prepare a Resource Management Plan Revision/Environmental Impact Statement

AGENCY: Bureau of Land Management, Department of the Interior.

ACTION: Notice of Intent to prepare a Resource Management Plan (RMP) revision and associated Environmental Impact Statement (EIS), Socorro Field Office, New Mexico.

SUMMARY: Pursuant to section 202 of the Federal Land Policy and Management Act of 1976 (FLPMA) and section 102 (2)(C) of the National Environmental Policy Act of 1969 (NEPA), the Bureau of Land Management (BLM), Socorro Field Office will prepare an RMP Revision and complete an EIS on the Revision for approximately 1.5 million acres of public lands managed by the Socorro Field Office in west-central New Mexico, located within Socorro and Catron Counties. The revised land use plan will guide resource management in these areas into the foreseeable future. The RMP Revision will be prepared under guidance provided through 43 CFR part 1600 (BLM Planning Regulations). The BLM will work closely with interested parties to identify issues, resolve disputes, and develop management actions that are best suited to the management of the resources and the needs of the public. This collaborative process will take into account local, regional, and national concerns. This Notice formally initiates the public Scoping process to identify planning issues and to review preliminary planning criteria.

DATES: The Scoping comment period will commence with the publication of this Notice and Scoping comments would be most effective if received not later than 30 days after the last public meeting. Meetings and comment closing dates will be announced through local news media, newsletters, and the BLM Web site: http://www.nm.blm.gov.

ADDRESSES: Written comments should be sent to “RMP COMMENTS”, BLM, Socorro Field Office, 198 Neel Ave., NW, Socorro, NM, 87801, Fax: 505-835-0223. Documents pertinent to this proposal may be examined at the Socorro Field Office. Comments, including names and street addresses of respondents, will be available for public review at the Socorro Field Office during regular business hours, 8 a.m. to 4:30 p.m., Monday through Friday, except holidays, and may be published as part of the RMP/EIS. Individual respondents may request confidentiality. If you wish to withhold your name or address from public review or from disclosure under the Freedom of Information Act, you must state this prominently at the beginning of your written comment. Such requests will be honored to the extent allowed by law. All submissions from organizations and businesses, and from individuals identifying themselves as representatives or officials of organizations or businesses, will be available for public inspection in their entirety.

FOR FURTHER INFORMATION CONTACT: For further information and/or to have your name added to our mailing list, contact Charles Carroll, Planning and Environmental Coordinator, BLM, Socorro Field Office, 198 Neel Ave., NW, Socorro, NM, 87801, phone: 505-838-1278.

SUPPLEMENTARY INFORMATION: Opportunities to participate will occur throughout the planning process. To ensure local community participation and input, public scoping meetings will be held, at a minimum, in three towns strategically located in or near the planning area. Early participation by all interested parties is encouraged and will help guide the planning process and determine the future management of public lands. At least 15 days public notice in local news media will be given for activities where the public is invited to attend. The minutes and list of attendees for each meeting will be available to the public and open for 30 days to any participant who wishes to clarify their views. Written comments will be accepted throughout the planning process at the address shown above. Additional formal opportunities for public participation and comment will be provided upon publication of the draft RMP Revision and draft EIS.

Preliminary issues and management concerns have been identified by BLM personnel, other agencies, and in meetings with individuals and user groups. The preliminary issues are: Management of public land resources at the watershed level; off-highway vehicle management; fluid and solid mineral development; effects of urban interface; land tenure adjustments; status of Areas of Critical Environmental Concern; identification of resource values on recently acquired public lands; and public interest/benefits with regard to recent cultural/recreation initiatives—e.g., El Camino Real International Heritage Center, Fort Craig, El Camino Real National Historic Trail, etc.

Preliminary Management Concerns include: Management of current/future special status species; maintaining government-to-government relationships with tribal governments; effect on disproportionate impacts to disadvantaged communities resulting from execution of land management decisions (Environmental Justice Executive Order 12898); the potential for the spread of noxious weeds; and the management of designated streams (Clean Water Act, Section 303-d). Public comments on the issues will be placed in one of three categories: (1) Issues to be resolved in the plan; (2) issues resolved through policy or administrative action; or (3) issues beyond the scope of this plan. The public is encouraged to help identify issues, questions, and concerns during the scoping phase.

Planning Criteria will be developed during public scoping to help guide the planning effort. Preliminary Planning Criteria being considered for the Socorro planning effort include: Recognize valid existing rights; comply with existing law, executive orders, regulation, and BLM policy and program guidance; seek public input; consider adjoining non-public lands when making management decisions to minimize land use conflicts; consider planning jurisdictions of other federal agencies, and state, local and tribal governments; develop reasonable and sound alternatives; use current scientific data to evaluate appropriate management strategies; analyze socioeconomic effects of alternatives along with the environmental effects; carry forward valid analysis from existing documents; and consider public welfare and safety.

The Socorro Field Office borders the Cibola, Apache, and Gila National Forests, the Alamo Navajo Reservation, the White Sands Missile Range, and the Sevilleta and Bosque del Apache National Wildlife Refuge. Elevations in the area range approximately 4,600 feet along the Rio Grande to over 8,500 feet on Pelona Mountain.

The Socorro Field Office is presently managed under the Socorro RMP (1989, as amended). Information and decisions from the existing Socorro RMP will be reviewed and incorporated in this plan revision to the extent possible.

Management will continue under the Socorro RMP until the revised RMP is approved.

Dated: March 27, 2002.
Richard A. Whitley,
New Mexico Associate State Director.

[FR Doc. 02-11442 Filed 5-7-02; 8:45 am]

BILLING CODE 4310-GG-P